DEPARTMENT OF ENERGY

Federal Energy Regulatory Commission

Combined Notice of Filings #2

Take notice that the Commission received the following electric rate filings:

Docket Numbers: ER14-525-001.

Applicants: ISO New England Inc.

Description: Rev. Related to FA for Non-Commercial Capacity in the FCM to be effective 3/28/2014.

Filed Date: 1/7/14.

Accession Number: 20140107-5050.

Comments Due: 5 p.m. ET 1/17/14.

Docket Numbers: ER14-612-003.

Applicants: Skylar Energy LP.

Description: Skylar Market-Based Rate Tariff to be effective 1/16/2014.

Filed Date: 1/7/14.

Accession Number: 20140107-5080.

Comments Due: 5 p.m. ET 1/14/14.

Docket Numbers: ER14-713-001.

Applicants: ISO New England Inc.

Description: Conforming Filing of Effective Language to be effective 12/17/2013.

Filed Date: 1/7/14.

Accession Number: 20140107-5073.

Comments Due: 5 p.m. ET 1/17/14.

Docket Numbers: ER14-957-000.

Applicants: PJM Interconnection, L.L.C.

Description: Original Service Agreement No. 3687; Queue No. Y3-027 to be effective 12/12/2013.

Filed Date: 1/7/14.

Accession Number: 20140107-5054.

Comments Due: 5 p.m. ET 1/28/14.

Docket Numbers: ER14-958-000.

Applicants: Public Service Company of New Mexico.

Description: Certificates of Concurrence to be effective 12/30/2013.

Filed Date: 1/7/14.

Accession Number: 20140107-5057.

Comments Due: 5 p.m. ET 1/28/14.

Docket Numbers: ER14-959-000.

Applicants: PacifiCorp.

Description: PacifiCorp submits Nobel Americas Energy Solutions NITSA Rev 6 to be effective 1/1/2014.

Filed Date: 1/7/14.

Accession Number: 20140107-5070.

Comments Due: 5 p.m. ET 1/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2014.
Nathaniel J. Davis, Sr.,
Deputy Secretary.

[FR Doc. 2014-00936 Filed 1-17-14; 8:45 am]

BILLING CODE 6717-01-P